DEPARTMENT OF TRANSPORTATION

Federal Aviation Administration

14 CFR Part 39

[Docket No. FAA-2007-0177; Directorate Identifier 2007-CE-093-AD]

RIN 2120-AA64

Airworthiness Directives; Taylorcraft Models A, B, and F Series Airplanes

AGENCY: Federal Aviation Administration (FAA), Department of Transportation (DOT).

ACTION: Notice of proposed rulemaking (NPRM).

SUMMARY: We propose to adopt a new airworthiness directive (AD) for certain Taylorcraft Models A, B, and F series airplanes. This proposed AD would require inspection of the wing strut attach fittings for corrosion or cracks and would require repair or replacement if corrosion or cracks are found. This proposed AD results from data collected from an accident involving a Taylorcraft Model BF12-65 airplane. The wing separated from the airplane after the wing strut attach fitting failed due to corrosion. We are proposing this AD to detect and correct corrosion or cracks in the wing strut attach fittings. This condition, if not corrected, could result in failure of the wing strut attach fittings and lead to wing separation and loss of control.

DATES: We must receive comments on this proposed AD by March 21, 2008.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Taylorcraft Aviation, LLC, 2124 North Central Avenue, Brownsville, Texas 78521; telephone: 956-986-0700.

FOR FURTHER INFORMATION CONTACT: Andy McAnaul, Aerospace Engineer, 10100 Reunion Place, San Antonio, Texas 78216; telephone: (210) 308-3365; fax: (210) 308-3370.

SUPPLEMENTARY INFORMATION:

Comments Invited

We invite you to send any written relevant data, views, or arguments regarding this proposed AD. Send your comments to an address listed under the ADDRESSES section. Include the docket number, “FAA-2007-0177; Directorate Identifier 2007-CE-093-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

This proposed AD results from data collected after a double fatality accident involving a Taylorcraft Model BF12-65 airplane near Oregon City, Oregon in July 2007. The fitting was corroded approximately 70 percent through the fracture surface. The airplane's fabric was wrapped around the lugs of the wing strut attach fitting with the ends of the fabric stuffed into the fitting itself. The fabric plugged the drain hole on the bottom of the fitting and prevented water from draining out the front and back ends of the fitting. The fabric also did not allow for easy visual inspection of the exterior and interior of the fitting. In addition to fabric, the drain hole was blocked by other foreign debris as well.

The corrosion or cracking is most likely to occur in the section between where the front and rear lift strut attach fittings are bolted to the fuselage fitting. This condition, if not corrected, could result in failure of the wing strut attach fittings and lead to wing separation and loss of control.

Relevant Service Information

We have reviewed Taylorcraft Aviation, LLC Service Bulletin No. 2007-002, dated November 8, 2007.

The service information describes procedures for inspecting the wing strut attach fitting part number A-A11 for cracks or corrosion and procedures for any required repair or replacement.

FAA's Determination and Requirements of the Proposed AD

We are proposing this AD because we evaluated all information and determined the unsafe condition described previously is likely to exist or develop on other products of the same type design. This proposed AD would require inspection of the wing strut attach fitting for cracks and corrosion and repair or replacement if cracks or corrosion are found.

Costs of Compliance

We estimate that this proposed AD would affect 3,119 airplanes in the U.S. registry.

We estimate the following costs to do the proposed inspection:

Labor cost | Parts cost | Total cost per airplane | Total cost on U.S. operators
2 work-hours × $80 per hour = $160 | $0 | $160 | $499,040

We estimate the following costs to do any necessary replacements that would be required based on the results of the proposed inspection. We have no way of determining the number of airplanes that may need this replacement:

Labor cost per fitting | Parts cost per fitting | Total cost per airplane (for two fittings)
30 work-hours × $80 per hour = $2,400 | $200 | $5,200

We have no way of determining the number of airplanes that may require repair as a result of the proposed inspection or the extent of repair that may be required.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Taylorcraft: Docket No. FAA-2007-0177; Directorate Identifier 2007-CE-093-AD.

Comments Due Date

(a) We must receive comments on this airworthiness directive (AD) action by March 21, 2008.

Affected ADs

(b) None.

Applicability

(c) This AD applies to all serial numbers of Taylorcraft Models A, BC, BCS12-D, BCS, BC12-D1, BC-65, BCS12-D1, BCS-65, BC12D-85, BC12-65 (Army L-2H), BCS12D-85, BCS12-65, BC12D-4-85, BC12-D, BCS12D-4-85, (Army L-2G) BF, BFS, BF-60, BFS-60, BF-65, BFS-65, (Army L-2K) BF 12-65, BFS-65, BL, BLS, (Army L-2F) BL-65, BLS-65, (Army L-2J) BL12-65, BLS12-65, 19, F19, F21, F21A, F21B, F22, F22A, F22B, and F22C airplanes that are certificated in any category.

Note: This AD applies to all Taylorcraft models listed above, including those models not listed in Taylorcraft Aviation, LLC Service Bulletin No. 2007-002, dated November 8, 2007. If there are any other differences between this AD and the above service bulletin, this AD takes precedence.

Unsafe Condition

(d) This AD results from data collected from an accident involving a Taylorcraft Model BF12-65 airplane. The wing separated from the airplane after the wing strut attach fitting failed due to corrosion. We are proposing this AD to detect and correct corrosion or cracks in the wing strut attach fittings. This condition, if not corrected, could result in failure of the wing strut attach fittings and lead to wing separation and loss of control.

Compliance

(e) To address this problem, you must do the following, unless already done:

(1) Initially inspect the left and right wing lift strut attach fittings, part number (P/N) A-A11, for corrosion or cracking following Taylorcraft Aviation, LLC Service Bulletin No. 2007-002, dated November 8, 2007, using the following compliance times:

(i) For airplanes that have never been equipped with floats or snow skis: Within the next 90 days after the effective date of this AD.

(ii) For airplanes equipped with or that have ever been equipped with floats or snow skis: Within the next 30 days after the effective date of this AD.

(2) If the airplane is equipped with floats or snow skis at the time of the initial inspection required by paragraph (e)(1) of this AD or at any time after the initial inspection required by paragraph (e)(1) of this AD, you must repeat the inspection required in paragraph (e)(1) of this AD as follows:

If the following exists: | Then:
(i) The airplane is equipped with floats or snow skis at the time of the initial inspection required by paragraph (e)(1) of this AD | Inspect no later than 48 months following the initial inspection and repetitively inspect thereafter at intervals not to exceed 48 months. Continue these repetitive inspections until removal of floats or snow skis, at which time you must follow paragraph (e)(2)(ii) of this AD.
(ii) You remove floats or snow skis at any time following the initial inspection required by paragraph (e)(1) of this AD | Inspect no later than 48 months following the last inspection. After the inspection following removal of floats or snow skis, no further inspections are required unless floats or snow skis are re-installed at a later date, at which time you must follow paragraph (e)(2)(iii) of this AD.
(iii) You install floats or snow skis at any time since the initial inspection required by paragraph (e)(1) of this AD | Inspect no later than 48 months following the last inspection or before further flight after installation of floats or snow skis, whichever occurs later, and repetitively inspect thereafter at intervals not to exceed 48 months. Continue these repetitive inspections until removal of floats or snow skis, at which time you must follow paragraph (e)(2)(ii) of this AD.

(3) If you find cracking or material loss due to corrosion during any of the inspections required in paragraph (e)(1) or (e)(2) of this AD, before further flight, do the following:

(i) Contact Taylorcraft Aviation, LLC at 2124 North Central Avenue, Brownsville, Texas 78521; telephone: 956-986-0700 to obtain an FAA-approved repair scheme or replacement procedure; and

(ii) Repair following the FAA-approved repair scheme or replace the left and/or right wing lift strut attach fitting(s), P/N A-A11, following the replacement procedure.

Alternative Methods of Compliance (AMOCs)

(f) The Manager, Fort Worth Airplane Certification Office, FAA, has the authority to approve AMOCs for this AD, if requested using the procedures found in 14 CFR 39.19. Send information to ATTN: Andy McAnaul, Aerospace Engineer, 10100 Reunion Place, San Antonio, Texas 78216; telephone: (210) 308-3365; fax: (210) 308-3370. Before using any approved AMOC on any airplane to which the AMOC applies, notify your appropriate principal inspector (PI) in the FAA Flight Standards District Office (FSDO), or lacking a PI, your local FSDO.

Related Information

(g) To get copies of the service information referenced in this AD, contact Taylorcraft Aviation, LLC, 2124 North Central Avenue, Brownsville, Texas 78521; telephone: 956-986-0700. To view the AD docket, go to U.S. Department of Transportation, Docket Operations, M-30, West Building Ground Floor, Room W12-140, 1200 New Jersey Avenue, SE., Washington, DC 20590, or on the Internet at http://www.regulations.gov.

Issued in Kansas City, Missouri, on February 12, 2008.
David R. Showers,
Acting Manager, Small Airplane Directorate, Aircraft Certification Service.

[FR Doc. E8-2995 Filed 2-19-08; 8:45 am]

BILLING CODE 4910-13-P